DEPARTMENT OF THE INTERIOR

Fish and Wildlife Service

Availability of Final Comprehensive Conservation Plan for Crescent Lake National Wildlife Refuge, Ellsworth, NE

AGENCY: Fish and Wildlife Service, Interior.

ACTION: Notice of availability.

SUMMARY: Pursuant to the Refuge Improvement Act of 1997, the U.S. Fish and Wildlife Service has published the Crescent Lake National Wildlife Refuge Comprehensive Conservation Plan and Summary. This Plan describes how the FWS intends to manage the Crescent Lake NWR for the next 10 to 15 years.

ADDRESSES: A copy of the Plan or Summary may be obtained by writing to U.S. Fish and Wildlife Service, Crescent Lake National Wildlife Refuge Complex, 115 Railway Street, Suite C109, Scottsbluff, NE 69363-1346; or download from http://mountain-prairie.fws.gov/planning/

FOR FURTHER INFORMATION CONTACT: Steve Knode, Complex Manager, U.S. Fish and Wildlife Service, Crescent Lake NWR, 115 Railway Street, Suite C109, Scottsbluff, NE 69363-1346, phone 308/635-7851; fax 308/635-7841; e-mail: steve_knode@fws.gov

SUPPLEMENTARY INFORMATION: The 45,849-acre Crescent Lake National Wildlife Refuge, established in 1931, is located 28 miles north of Oshkosh, Nebraska in Garden County at the southwestern end of the Nebraska Sandhills. It is administered by the U.S. Fish and Wildlife Service as part of the Crescent Lake National Wildlife Refuge Complex and is within the Central Flyway. The Complex headquarters is 100 miles to the west in the City of Scottsbluff, NE.

The initial Refuge was 36,920 acres, acquired primarily from one large ranch. Additional lands were acquired between 1932 and 1937. Most lands were acquired or exchanged under the authority of the Migratory Bird Conservation Act (45 Stat. 1222). About 2,566 acres were acquired under the Resettlement Administration (Executive Order 7027, April 30, 1935), a drought and depression relief program.

The Nebraska Sandhills were settled largely as a result of the Kincaid Act of 1904, a modification of the Homestead Act to allow settlers 640 acres in “less productive” areas. As a result, a homestead existed in almost every meadow. However, 640 acres was not a viable farm/ranch unit in the Sandhills, and land was soon consolidated into larger units. Today, the Sandhills are home to some of the largest ranches in the country. Because of the large acreage required to support economically viable units, Garden County is among the least densely populated areas in the continental United States. Most of the Refuge location names originated from the early homesteaders.

The availability of the Draft CCP/Environmental Assessment (EA) for 30-day public review and comment was noticed in the Federal Register on Wednesday, May 1, 2002, in Volume 67, Number 84, page 21711. The Draft CCP/EA identified and evaluated four management alternatives for the Crescent Lake National Wildlife Refuge as to their effectiveness in achieving the Refuge's purposes and their impact on the human environment for the next 15 years. Alternative 1—No Action Alternative which would continue the current management for the Refuge and not include extensive restoration of wetland and grassland habitats; Alternative 2—historical management of refuge habitats and wildlife to replicate pre-settlement conditions; Alternative 3—the intensive management of refuge habitats and refuge program to increase outputs in certain areas; and the preferred Alternative 4—modified historical management of habitats for native birds and wild animals and to pursue a more natural historic management regime. The alternatives were assessed in the Draft CCP management plan and Environmental Assessment. Based on this assessment and comments received, the preferred Alternative 4 was selected for implementation.

The preferred alternative was selected because it best meets the purposes of the Refuge to reserve and set apart as a refuge and breeding ground for birds and wild animals. The preferred alternative will also provide for public access for wildlife-dependent recreation, and provides environmental education opportunities related to fish and wildlife resources.

Dated: October 2, 2002.
Elliott Sutta,
Acting Regional Director, Denver, Colorado.

[FR Doc. 03-4590 Filed 2-26-03; 8:45 am]

BILLING CODE 4310-55-P